DEPARTMENT OF AGRICULTURE

Submission for OMB Review; Comment Request

March 23, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Measurement Service Records.

OMB Control Number: 0560-0260.

Summary of Collection: This collection of information is authorized by 7 CFR part 718 and described in FSA Handbook 2-CP. If a producer requests measurement services, it becomes necessary for the producer to provide certain information which is collected on the FSA-409, Measurement Service Record. The collection of this information is necessary to fulfill the producer's request for measurement services. Producers may request acreage or production measurement services.

Need and Use of the Information: The Farm Service Agency (FSA) will collect the following information that the producer is required to provide on the FSA-409: farm serial number, program year, farm location, contact person, and type of service request (acreage or production). The collected information is used to create a record of measurement service requests and cost to the producer.

Description of Respondents: Farms.

Number of Respondents: 135,000.

Frequency of Responses: Reporting: Other (once).

Total Burden Hours: 168,750.

Ruth Brown,
Departmental Information Collection Clearance Officer.

[FR Doc. 2011-7263 Filed 3-28-11; 8:45 am]

BILLING CODE 3410-05-P